FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010806-007.

Title: Management Agreement, Port Agreement No. 95-160.

Parties: The Port of Portland and SSA Containers, Inc.

Synopsis: The amendment makes cost saving modifications to reflect the downturn in breakbulk shipments.

Agreement No.: 011421-032.

Title: East Coast of South America Discussion Agreement.

Parties: Alianca Navegacao e Logistica Ltda.; A.P. Moller-Maersk A/S; Compania Sud Americana de Vapores, S.A.; Hamburg-Süd KG; APL Co. Pte Ltd.; Lykes Lines Limited, LLC; Mediterranean Shipping Company, S.A.; Evergreen Marine Corporation (Taiwan) Limited; Companhia Libra de Navegacao; Montemar Maritima, S.A.; CMA CGM, S.A.; P&O Nedlloyd B.V.; and P&O Nedlloyd Limited.

Synopsis: The amendment deletes Maersk Sealand and Safmarine as parties to the agreement.

Agreement No.: 011733-010.

Title: Common Ocean Carrier Platform Agreement.

Parties: A.P. Moller Maersk Sealand, P&O Nedlloyd Limited, Hamburg-Süd, Mediterranean Shipping Company S.A., CMA CGM S.A., Hapag Lloyd Container Linie GmbH, and United Arab Shipping Company (SAG), as shareholder parties, and Alianca Navegacao e Logistica Ltda., Safmarine Container Lines N.V., Nippon Yusen Kaisha, CP Ship Limited, Tasman Orient Line C.V., and Mitsui O.S.K. lines, Ltd., and Lykes Lines Limited, LLC as non-shareholder parties.

Synopsis: The amendment adds Lykes Lines Limited, LLC as a non-shareholder party to the agreement.

By Order of the Federal Maritime Commission.
Dated: February 19, 2004.
Bryant L. VanBrakle,
Secretary.

[FR Doc. 04-4015 Filed 2-23-04; 8:45 am]

BILLING CODE 6730-01-P